DEPARTMENT OF ENERGY

Federal Energy Regulatory Commission

[Docket No. ER01-2699-000, et al.]

Florida Power & Light Company, et al.; Electric Rate and Corporate Regulation Filings

August 1, 2001.

Take notice that the following filings have been made with the Commission:

1. Florida Power & Light Company

[Docket No. ER01-2699-000]

Take notice that on July 27, 2001 Florida Power & Light Company (FPL) tendered for filing with the Federal Energy Regulatory Commission (Commission) proposed service agreements with Calpine Energy Services, L.P. for Non-Firm transmission service and Firm transmission service under FPL's Open Access Transmission Tariff pursuant to Part 35 of the Commission's regulations, (18 CFR part 35).

FPL requests that the proposed service agreements become effective on July 12, 2001.

Comment date: August 17, 2001, in accordance with Standard Paragraph E at the end of this notice.

2. Puget Sound Energy, Inc.

[Docket No. ER01-2700-000]

Take notice that on July 27, 2001, Puget Sound Energy, Inc., as Transmission Provider, tendered for filing a service agreement for Firm Point-To-Point Transmission Service and a service agreement for Non-Firm Point-To-Point Transmission Service with Calpine Energy Services, L.P. (CES), as Transmission Customer.

A copy of the filing was served upon CES.

Comment date: August 17, 2001, in accordance with Standard Paragraph E at the end of this notice.

3. Midwest Independent Transmission System Operator, Inc.

[Docket No. ER01-2701-000]

Take notice that on July 27, 2001, Midwest Independent Transmission System Operator, Inc. (Midwest ISO) tendered for filing an amendment to the Agreement of Transmission Facilities Owners to Organize the Midwest ISO to allow tax exempt-financed governmental entities to join the Midwest ISO.

The Midwest ISO requests that the amendments become effective September 26, 2001.

Copies of this filing were served on Midwest ISO Members, Member representatives of Transmission Owners and Non-Transmission Owners, the Midwest ISO Advisory Committee participants, Policy Subcommittee participants, as well as all state commissions within the region.

Comment date: August 17, 2001, in accordance with Standard Paragraph E at the end of this notice.

4. Michigan Electric Transmission Company

[Docket No. ER01-2702-000]

Take notice that on July 27, 2001, Michigan Electric Transmission Company (Michigan Transco) tendered for filing a Second Revised Service Agreement No. 22 (Agreement) with Consumers Energy Company (Customer) under its Electric Tariff FERC No. 1 with a proposed effective date of April 1, 2001. The revisions are to make the underlying agreement more consistent with Michigan Transco's pro forma generator interconnection agreement.

The filing was served upon the Customer and the Michigan Public Service Commission.

Comment date: August 17, 2001, in accordance with Standard Paragraph E at the end of this notice.

5. UtiliCorp United Inc.

[Docket No. ER01-2703-000]

Take notice that on July 27, 2001, UtiliCorp United Inc. (UtiliCorp), filed with the Federal Energy Regulatory Commission (Commission), pursuant to Section 205 of the Federal Power Act, 16 U.S.C. § 824d, and Part 35 of the Commission's regulations, 18 CFR Part 35, Amendatory Agreement No. 4 to the Agreement for Interchange of Power & Interconnected Operation between UtiliCorp United Inc. d/b/a Missouri Public Service and Associated Electric Cooperative, Inc. (UtiliCorp's Rate Schedule FERC No. 60). This amendment provides for additional delivery points near Rich Hill, Missouri and near Platte City, Missouri.

Comment date: August 17, 2001, in accordance with Standard Paragraph E at the end of this notice.

6. UtiliCorp United Inc.

[Docket No. ER01-2704-000]

Take notice that on July 27, 2001, UtiliCorp United Inc. (UtiliCorp), filed with the Federal Energy Regulatory Commission (Commission), pursuant to section 205 of the Federal Power Act, 16 U.S.C. 824d, and part 35 of the Commission's regulations, 18 CFR Part 35, a revised rate schedule between UtiliCorp and the City of Rich Hill, Missouri.

Comment date: August 17, 2001, in accordance with Standard Paragraph E at the end of this notice.

7. American Transmission Company LLC

[Docket No. ER01-2705-000]

Take notice that on July 27, 2001, American Transmission Company LLC (ATCLLC) tendered for filing a Generation-Transmission Interconnection Agreement between ATCLLC and Badger Generating Company, LLC.

ATCLLC requests an effective date of June 29, 2001.

Comment date: August 17, 2001, in accordance with Standard Paragraph E at the end of this notice.

8. New England Power Company

[Docket No. ER01-2706-000]

Take notice that on July 27, 2001 New England Power Company (NEP) submitted:

(i) Second Revised Service Agreement No. 20 between NEP and Massachusetts Electric Company and Nantucket Electric Company (together, Mass. Electric) under NEP's FERC Electric Tariff, Original Volume No. 1 (Tariff No. 1); and

(ii)Second Revised Service Agreement No. 23 between NEP and The Narragansett Electric Company (Narragansett) under Tariff No. 1.

The service agreements have been revised to include settlement agreements between NEP, Mass. Electric, Narragansett and various retail stakeholders in Massachusetts and Rhode Island. The settlements do not change the rates, terms or conditions of the service agreements.

Comment date: August 17, 2001, in accordance with Standard Paragraph E at the end of this notice.

9. Arizona Public Service Company

[Docket No. ER01-2707-000]

Take notice that on July 27, 2001, Arizona Public Service Company (the Company) tendered for filing an informational report on refunds of over billed amounts to certain wholesale customers through the Company's FERC Fuel Adjustment Clause.

Copies of this filing have been served upon the affected parties.

Comment date: August 17, 2001, in accordance with Standard Paragraph E at the end of this notice.

10. Idaho Power Company

[Docket No. ER01-2708-000]

Take notice that on July 27, 2001, Idaho Power Company filed a Service Agreement for Firm Point-to-Point Transmission Service between Idaho Power Delivery and Idaho Power Marketing, under its open access transmission tariff in the above-captioned proceeding.

Idaho Power requests that the Service Agreement become effective on July 23, 2001.

Comment date: August 17, 2001, in accordance with Standard Paragraph E at the end of this notice.

11. Idaho Power Company

[Docket No. ER01-2709-000]

Take notice that on July 27, 2001, Idaho Power Company filed a Service Agreement for Firm Point-to-Point Transmission Service between Idaho Power Company and The Cincinnati Gas & Electric Company, an Ohio corporation, PSI Energy Inc., an Indiana Corporation, (collectively, Cinergy Operating Companies) and Cinergy Services, Inc., a Delaware corporation, as agent for and on behalf of the Cinergy Operating Companies, under its open access transmission tariff in the above-captioned proceeding.

Idaho Power requests that the Service Agreement become effective on July 24, 2001.

Comment date: August 17, 2001, in accordance with Standard Paragraph E at the end of this notice.

12. Idaho Power Company

[Docket No. ER01-2710-000]

Take notice that on July 27, 2001, Idaho Power Company filed a Service Agreement for Non-Firm Point-to-Point Transmission Service between Idaho Power Company and The Cincinnati Gas & Electric Company, an Ohio corporation, PSI Energy Inc., an Indiana Corporation, (collectively, Cinergy Operating Companies) and Cinergy Services, Inc., a Delaware corporation, as agent for and on behalf of the Cinergy Operating Companies, under its open access transmission tariff in the above-captioned proceeding.

Idaho Power requests that the service agreement become effective on July 24, 2001.

A copy of this filing has been served on the customer.

Comment date: August 17, 2001, in accordance with Standard Paragraph E at the end of this notice.

13. American Transmission Company LLC

[Docket No. ER01-2712-000]

Take notice that on July 27, 2001, American Transmission Company LLC (ATCLLC) tendered for filing executed Network Integration Transmission Service and Network Operating Agreements between ATCLLC and Upper Peninsula Power Company.

ATCLLC requests an effective date of June 29, 2001.

Comment date: August 17, 2001, in accordance with Standard Paragraph E at the end of this notice.

14. UtiliCorp United Inc.

[Docket No. EC01-132-000]

Take notice that on July 27, 2001, UtiliCorp United Inc. (UtiliCorp), filed an application pursuant to Section 203 of the Federal Power Act, 16 U.S.C. § 824b, and Part 33 of the Commission's regulations, 18 CFR Part 33. UtiliCorp requests authorization and approval of the sale by UtiliCorp and the purchase by the City of Rich Hill, Missouri (Rich Hill) of certain limited transmission facilities within the city.

Comment date: August 17, 2001, in accordance with Standard Paragraph E at the end of this notice.

15. Arizona Public Service Company

[Docket No. ER01-463-005]

Take notice that on July 27, 2001, Arizona Public Service Company (APS) tendered for filing with the Federal Energy Regulatory Commission (Commission) its Compliance filing pursuant to the Commission's July 2, 2001 Order on Compliance Filing in Docket Nos. ER01-463-003 and ER01-463-004 (Not Consolidated).

A copy of this filing has been served on all parties on the official service list.

Comment date: August 17, 2001, in accordance with Standard Paragraph E at the end of this notice.

16. Public Service Company of New Mexico

[Docket No. ER01-1845-002]

Take notice that on July 27, 2001, Public Service Company of New Mexico (PNM) tendered for filing a Compliance Filing in association with PNM's earlier filing (dated April 23, 2001, as amended May 11, 2001) of its proposed revisions to the pricing methodology for energy provided by PNM for Schedule 4—Energy Imbalance Service under PNM's Open Access Transmission Tariff. PNM's Compliance Filing incorporates certain modifications to the proposed pricing change identified in the Commission's Order Accepting Revisions, as Modified, to Open Access Transmission Tariff, issued on June 29, 2001, Public Service Co. of New Mexico, 95 FERC ¶ 61,214 (2001). PNM's filing is available for public inspection at its offices in Albuquerque, New Mexico.

Copies of the filing have been sent to all PNM Tariff customers, all entities that have pending interconnection requests with PNM and the New Mexico Public Regulation Commission.

Comment date: August 17, 2001, in accordance with Standard Paragraph E at the end of this notice.

17. FPL Energy MH50, L.P.

[Docket No. ER01-1676-002]

Take notice that on July 27, 2001, FPL Energy MH50, L.P. (MH50) tendered for filing with the Federal Energy Regulatory Commission (Commission) a revised Rate Schedule FERC No. 2 to comply with the Commission's Order in the above-referenced proceeding issued on July 11, 2001.

Comment date: August 17, 2001, in accordance with Standard Paragraph E at the end of this notice.

18. Ameren Services Company

[Docket No. ER01-1786-002]

Take notice that on July 27, 2001, Ameren Services Company (Ameren Services), as agent for Union Electric Company (d/b/a AmerenUE) and Central Illinois Public Service Company (d/b/a AmerenCIPS), submitted the compliance filing required by the Federal Energy Regulatory Commission's Order of July 2, 2001 in the above-referenced proceeding.

Ameren Services requests an effective date of July 1, 2001 for the changes reflected in this filing.

Copies of this filing were served all parties on the Commission's official service list in this proceeding, on all customers under the Ameren OATT and on all affected state commissions.

Comment date: August 17, 2001, in accordance with Standard Paragraph E at the end of this notice.

19. PJM Interconnection, L.L.C.

[Docket No. ER01-1936-001]

Take notice that on July 27, 2001, PJM Interconnection, L.L.C. (PJM) tendered for filing with the Federal Energy Regulatory Commission (Commission) proposed amendments to the PJM Open Access Transmission Tariff and the Amended and Restated Operating Agreement of PJM Interconnection, L.L.C. PJM states that the proposed amendments are submitted to comply with the Commission's June 28, 2001 Order in this proceeding.

Copies of this filing have been served on all parties, as well as on all PJM Members and the state electric regulatory commissions in the PJM control area.

Comment date: August 17, 2001, in accordance with Standard Paragraph E at the end of this notice.

20. Ameren Energy Marketing Company

[Docket No. ER01-1945-001]

Take notice that on July 27, 2001, Ameren Energy Marketing Company (AEM) tendered for filing with the Federal Energy Regulatory Commission (Commission) a compliance filing required by the Commission's June 27, 2001 order in this proceeding.

AEM requests an effective date of May 3, 2001 for the changes reflected in this filing.

A copy of this filing was served on all parties on the Docket No. ER01-1945 service list, and on all affected state commissions.

Comment date: August 17, 2001, in accordance with Standard Paragraph E at the end of this notice.

21. Entergy Services, Inc.

[Docket Nos. ER01-2021-001 and ER01-2106-001]

Take notice that on July 27, 2001, Entergy Services, Inc., on behalf of Entergy Arkansas, Inc., Entergy Gulf States, Inc., Entergy Louisiana, Inc., Entergy Mississippi, Inc., and Entergy New Orleans, Inc. (collectively, the Entergy Operating Companies), tendered for filing with the Federal Energy Regulatory Commission (Commission) compliance Interconnection and Operating Agreements with Washington Parish Energy Center, L.L.C. and, separately, with GenPower Keo, LLC, in response to the Commission's order in Entergy Services, Inc., 95 FERC ¶ 61,437 (2001) (the June 27 Order). Also, Entergy submitted Attachment O to its Open-Access Transmission Tariff (Tariff), with revised sheets per the modifications directed by the June 27 Order, such Attachment being filed for the first time to comply with the requirements of the Commission's Order No. 614, Designation of Electric Rate Schedule Sheets, 90 FERC ¶ 61,352 (2000). In addition, Entergy submitted Attachment N to its Tariff, also filed to comply with Order No. 614.

Comment date: August 17, 2001, in accordance with Standard Paragraph E at the end of this notice.

22. GWF Energy LLC

[Docket No. ER01-2233-001]

Take notice that on July 27, 2001, GWF Energy LLC (GWF) tendered for filing a revision to its market-based rate tariff in compliance with the Federal Energy Regulatory Commission's July 18, 2001 order in the above-referenced proceeding accepting the tariff for filing.

Comment date: August 17, 2001, in accordance with Standard Paragraph E at the end of this notice.

23. Jersey Central Power & Light Company Metropolitan Edison Company Pennsylvania Electric Company

[Docket No. ER01-2696-000]

Take notice that on July 27, 2001, Jersey Central Power & Light Company, Metropolitan Edison Company and Pennsylvania Electric Company (d/b/a GPU Energy), filed an executed Service Agreement between GPU Energy and Exelon Generation Company, LLC (ExeGen), dated July 11, 2001. This Service Agreement specifies that ExeGen has agreed to the rates, terms and conditions of GPU Energy's Market-Based Sales Tariff (Sales Tariff) designated as FERC Electric Rate Schedule, Second Revised Volume No. 5. The Sales Tariff allows GPU Energy and ExeGen to enter into separately scheduled transactions under which GPU Energy will make available for sale, surplus capacity and/or energy.

GPU Energy requests an effective date of July 11, 2001 for the Service Agreement.

GPU Energy has served copies of the filing on regulatory agencies in New Jersey and Pennsylvania.

Comment date: August 17, 2001, in accordance with Standard Paragraph E at the end of this notice.

24. Florida Power & Light Company

[Docket No. ER01-2697-000]

Take notice that on July 27, 2001 Florida Power & Light Company (FPL) tendered for filing proposed service agreements with Duke Energy Trading and Marketing for Long-Term Firm transmission service under FPL's Open Access Transmission Tariff, pursuant to Part 35 of the Federal Energy Regulatory Commission's regulations, 18 CFR Part 35.

FPL requests that the proposed service agreements become effective on July 3, 2001.

Comment date: August 17, 2001, in accordance with Standard Paragraph E at the end of this notice.

25. Florida Power & Light Company

[Docket No. ER01-2698-000]

Take notice that on July 27, 2001 Florida Power & Light Company (FPL) tendered for filing with the Federal Energy Regulatory Commission (Commission) proposed service agreements with AMEREN Energy, Inc. for Non-Firm transmission service and Firm transmission service under FPL's Open Access Transmission Tariff pursuant to Part 35 of the Commission's regulations, 18 CFR Part 35.

FPL requests that the proposed service agreements become effective on July 20, 2001.

Comment date: August 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19832 Filed 8-7-01; 8:45 am]

BILLING CODE 6717-01-P